ENVIRONMENTAL PROTECTION AGENCY

40 CFR Part 1042

Control of Emissions From New and In-Use Marine Compression-Ignition Engines and Vessels

CFR Correction

In Title 40 of the Code of Federal Regulations, Part 1000 to End, revised as of July 1, 2010, on page 240, in § 1042.901, the definition of “New vessel” is reinstated to read as follows:

§ 1042.901 Definitions.

* * * * *

New vessel means any of the following:

(1) A vessel for which the ultimate purchaser has never received the equitable or legal title. The vessel is no longer new when the ultimate purchaser receives this title or it is placed into service, whichever comes first.

(2) For vessels with no Category 3 engines, a vessel that has been modified such that the value of the modifications exceeds 50 percent of the value of the modified vessel, excluding temporary modifications (as defined in this section). The value of the modification is the difference in the assessed value of the vessel before the modification and the assessed value of the vessel after the modification. The vessel is no longer new when it is placed into service. Use the following equation to determine if the fractional value of the modification exceeds 50 percent:

Percent of value = [(Value after modification)(Value before modification)] × 100% ÷ (Value after modification)

(3) For vessels with Category 3 engines, a vessel that has undergone a modification that substantially alters the dimensions or carrying capacity of the vessel, changes the type of vessel, or substantially prolongs the vessel's life.

(4) An imported vessel that has already been placed into service, where it has an engine not covered by a certificate of conformity issued under this part at the time of importation that was manufactured after the requirements of this part start to apply (see § 1042.1).

* * * * *

[FR Doc. 2011-8794 Filed 4-12-11; 8:45 am]

BILLING CODE 1505-01-D